FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than April 23, 2018.

A. Federal Reserve Bank of Minneapolis (Mark A. Rauzi, Vice President), Assistant Vice President) 90 Hennepin Avenue, Minneapolis, Minnesota 55480-0291:

1. Meta Financial Group, Inc., Sioux Falls, South Dakota; to become a bank holding company by merging with Crestmark Bancorp, Inc., and thereby indirectly acquire Crestmark Bank, both of Troy, Michigan.

In connection with this application, Applicant will retain MetaBank, Sioux Falls, South Dakota, and thereby engage in operating a savings association pursuant to section 225.28(b)(4)(ii).

Meta Financial Group, Inc., through MetaBank, also proposes to purchase 80 percent of the shares of each of the following nonbank subsidiaries of Crestmark Bank; CM Sterling, LLC; and TFS LLC, all of Troy, Michigan, and thereby indirectly engage in lending and leasing real property activities, pursuant to sections 225.28 (b)(1) and (b)(3).

Board of Governors of the Federal Reserve System, March 20, 2018.
Ann E. Misback,
Secretary of the Board.

[FR Doc. 2018-05996 Filed 3-23-18; 8:45 am]

BILLING CODE 6210-01-P